DEPARTMENT OF COMMERCE

National Oceanic and Atmospheric Administration

[I.D. 050806C]

Magnuson-Stevens Act Provisions; General Provisions for Domestic Fisheries; Application for Exempted Fishing Permit

Correction

In notice document 06-4414 beginning on page 27465 in the issue of Thursday, May 11, 2006, make the following corrections:

1. On page 27465, in the third column, under the heading SUMMARY, in the sixth and ninth lines, “EEP” should read “EFP”.

2. On the same page, in the same column, under the same heading, in the 11th line, “footnote” should read “footrope”.

3. On the same page, in the same column, under the same heading, in the 13th and 14th lines, “by catch” should read “bycatch”.

4. On the same page, in the same column, under the same heading, in the 16th line, “Areas II and IV” should read “Areas III and IV”.

5. On the same page, in the same column, under the same heading, in the 10th line from the bottom of the first paragraph, “determinations” should read “determination”.

6. On page 27466, in the first column, under the heading ADDRESSES, in the second line, “Patrick A. Kurkul” should read “Patricia A. Kurkul”.

7. On the same page, in the same column, under the same heading, in the last line, “DAG-091@noaa.gov” should read “DA6-091@noaa.gov”.

8. On the same page, in the same column, under the heading SUPPLEMENTARY INFORMATION, in the third line, “April 11, 206” should read “April 11, 2006”.

9. On the same page, in the same column, under the same heading, in the second line from the bottom of the first paragraph, “Regulator” should read “Regular”.

10. On the same page, in the same column, under the same heading, in the second paragraph, in the third line, “tank tails” should read “tank trials”.

11. On the same page, in the first and second columns, under the same heading, in the second and third paragraphs, “trails” should read “trials” wherever it appears.

12. On the same page, in the first column, under the same heading, in the second paragraph, in the 11th line,“researches” should read “researchers”.

13. On the same page, in the second column, in the first paragraph, in the third line, “wet” should read “west”.

14. On the same page, in the same column, in the same paragraph, in the ninth and tenth lines from the bottom, “(RMS) at § 648.809(a)(3)(i)” should read ”(RMA) at § 648.80(a)(3)(i)”.

15. On the same page, in the same column, in the same paragraph, in the fourth line from the bottom, “effect o the” should read “effect of the”.

16. On the same page, in the same column, in the first full paragraph, in the fifth line from the bottom of the column, “fishing ling” should read “fishing line”.

[FR Doc. C6-4414 Filed 5-25-06; 8:45 am]

BILLING CODE 1505-01-D